ENVIRONMENTAL PROTECTION AGENCY

[EPA-HQ-OPP-2006-0702; FRL-8090-9]

Request for Public Comment on Proposed Stipulated Injunction Involving Pesticides and the California Red-legged Frog

AGENCY: Environmental Protection Agency (EPA).

ACTION: Notice of availability; request for public comment.

SUMMARY: EPA is making available for comment a proposed Stipulated Injunction that would affect aspects of the registrations of certain pesticides and establish a series of deadlines for the Agency to make “effects determinations” and initiate consultation, as appropriate, with the U.S. Fish and Wildlife Service for these pesticides in regard to the California red-legged frog, a species listed as threatened under the Endangered Species Act. EPA will evaluate all comments received during the public comment period to determine whether all or part of the proposed Stipulated Injunction warrants reconsideration. This proposed Stipulated Injunction, if entered by the Court, would resolve a lawsuit brought against EPA by the Center for Biological Diversity, on terms also acceptable to intervenors CropLife America, American Forest & Paper Association, Western Plant Health Association, Oregonians for Food and Shelter, and Syngenta Crop Protection, Inc.

DATES: Comments must be received on or before September 18, 2006.

ADDRESSES: Submit your comments, identified by docket identification (ID) number EPA-HQ-OPP-2006-0702, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is(703) 305-5805.

Instructions: Direct your comments to docket ID number EPA-HQ-OPP-2006-0702. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket are from 8:30 a.m. to 4 p.m., Monday through Friday, excluding legal holidays. The Docket telephone number is (703) 305-5805.

FOR FURTHER INFORMATION CONTACT: Arty Williams, Environmental Fate and Effects Division (7507P), Office of Pesticide Programs, Environmental Protection Agency, 1200 Pennsylvania Ave., NW., Washington, DC 20460-0001; telephone number: (703) 305-7695; fax number: (703) 305-6309; e-mail address: williams.arty@epa.gov.

SUPPLEMENTARY INFORMATION:

I. General Information

A. Does this Action Apply to Me?

This action is directed to the public in general, and may be of particular interest to the Center for Biological Diversity, CropLife America, American Forest & Paper Association, Western Plant Health Association, Oregonians for Food and Shelter, and Syngenta Crop Protection, Inc., other public interest groups, state regulatory partners, other interested Federal agencies, other pesticide registrants and pesticide users. Since other entities may also be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

EPA is making available in the docket (www.regulations.gov) and on EPA's Web site (www.epa.gov/espp/) a proposed Stipulated Injunction for comment. The proposed Stipulated Injunction would affect aspects of the registrations of certain pesticides and establish a series of deadlines for the Agency to make “effects determinations” and initiate consultation, as appropriate, with the U.S. Fish and Wildlife Service (FWS) for 66 pesticides relative to potential effects to the California red-legged frog, a species listed as threatened under the Endangered Species Act (ESA). EPA will evaluate all comments received during the public comment period to determine whether all or part of the proposed Stipulated Injunction warrants reconsideration. This proposed Stipulated Injunction, if entered by the United States District Court for the Northern District of California, would resolve a lawsuit brought against EPA by the Center for Biological Diversity (CBD or plaintiff) on terms also acceptable to CropLife America, American Forest & Paper Association, Western Plant Health Association, Oregonians for Food and Shelter, and Syngenta Crop Protection, Inc. (intervenors).

III. Background

On April 2, 2002, plaintiff filed a lawsuit in the Federal District Court for the Northern District of California alleging that EPA failed to comply with 16 U.S.C. 1531-1544 regarding the California red-legged frog (Center for Biological Diversity v. Stephen L. Johnson, et al., Civil No. CO2-1580-JSW (N.D. Cal.)). On September 19, 2005, the court ruled that EPA was required, pursuant to section 7(a)(2) of the ESA, to make “effects determinations” for 66 pesticide active ingredients and initiate consultation with the FWS as appropriate. EPA has reached an agreement with the plaintiff and intervenors that would establish a schedule for EPA to make such determinations and initiate consultation as appropriate, and would include interim injunctive measures intended to reduce the potential exposure of the California red-legged frog to these pesticides, while EPA satisfies its section 7(a)(2) consultation obligations. The agreement is embodied in a proposed Stipulated Injunction.

The 66 pesticide active ingredients named in the lawsuit are: Acephate; alachlor; aldicarb; atrazine; azinphos-methyl; bensulide; bromacil; captan; carbaryl; chloropicrin; chlorothalonil; chlorpyrifos; chlorthal-dimethyl (DCPA); 2,4-D; diazinon; 1,3-dichlorpropene; dicofol; diflubenzuron; dimethoate; disulfoton; diuron; endosulfan; EPTC; esfenvalerate; fenamiphos; glyphosate; hexazinone; imazapyr; iprodione; linuron; malathion; mancozeb; maneb; metam sodium; methamidophos; methidathion; methomyl; methoprene; methyl parathion; metolachlor; molinate; myclobutanil; naled; norflurazon; oryzalin; oxamyl; oxydemeton-methyl; oxyfluoren; paraquat dichloride; pendimethalin; permethrin; phorate; phosmet; prometryn; propanil; propargite; propyzamide (pronamide); rotenone; simazine; SSS-tributyl phosphororithiolate (DEF or Tribufos); strychnine; thiobencarb; triclopyr; trifluralin; vinclozolin; and ziram.

In addition, the Stipulated Injunction would (with some exceptions) enjoin, vacate, and set aside EPA's authorization of certain pesticides' uses in all areas described by the FWS as aquatic breeding, non-breeding aquatic, and upland critical habitat for the California red-legged frog, in certain other aquatic features and upland habitats occupied by the California red-legged frog, and in adjoining buffer zones. The injunctive relief, vacatur, and setting aside of EPA's authorizations would terminate for a particular use of a pesticide upon the completion of EPA's ESA section 7(a)(2) consultation obligations (including a “no effect” determination) for the particular use of the pesticide. The Stipulated Injunction would also require EPA to develop and distribute a brochure regarding the California red-legged frog, frogs generally and environmental contaminants, and certain aspects of the Stipulated Injunction.

Beginning today, EPA is opening a 15-day comment period on the proposed Stipulated Injunction. EPA will use the comments to determine whether all or part of the proposed Stipulated Injunction warrants reconsideration. If EPA determines that any part of the proposed Stipulated Injunction merits reconsideration, EPA will provide the plaintiff with a written request for further negotiations and the proposed Stipulated Injunction shall not be entered with the Court unless the parties can reach agreement on needed changes. If EPA determines that the proposed Stipulated Injunction does not need to be reconsidered, the terms of the proposed Stipulated Injunction shall become effective upon entry by the United States District Court for the Northern District of California. Once the Stipulated Injunction is entered by the U.S. District Court, EPA will post on its Web site at www.epa.gov/pesticides a notice indicating the Stipulated Injunction has been so entered.

List of Subjects

Environmental protection, Endangered species.

Dated: August 25, 2006.
James B. Gulliford,
Assistant Administrator, Office of Prevention, Pesticides and Toxic Substances.

[FR Doc. E6-14616 Filed 8-31-06; 8:45 am]

BILLING CODE 6560-50-S